DEPARTMENT OF THE INTERIOR

Bureau of Land Management

[WY-920-1430-ET; WYW 109115]

Public Land Order No. 7748; Extension of Public Land Order No. 6797; Wyoming

AGENCY: Bureau of Land Management, Interior.

ACTION: Public land order.

SUMMARY: This order extends the withdrawal created by Public Land Order No. 6797 for an additional 20-year period. This extension is necessary to continue the protection of the Whiskey Mountain Bighorn Sheep Winter Range in Fremont County.

DATES: Effective Date: September 14, 2010.

FOR FURTHER INFORMATION CONTACT: Janelle Wrigley, BLM Wyoming State Office, 5353 N. Yellowstone Road, P.O. Box 1828, Cheyenne, Wyoming 82003, 307-775-6257.

SUPPLEMENTARY INFORMATION: The purpose for which the withdrawal was first made requires this extension to continue the protection of the Whiskey Mountain Bighorn Sheep Winter Range. The withdrawal extended by this order will expire on September 13, 2030, unless, as a result of a review conducted prior to the expiration date pursuant to Section 204(f) of the Federal Land Policy and Management Act of 1976, 43 U.S.C. 1714(f), the Secretary determines that the withdrawal shall be further extended.

Order

By virtue of the authority vested in the Secretary of the Interior by Section 204 of the Federal Land Policy and Management Act of 1976, 43 U.S.C. 1714, it is ordered as follows:

Public Land Order No. 6797 (55 FR 37878 (1990)), which withdrew 9,609.74 acres of public mineral estate from location or entry under the United States mining laws (30 U.S.C. Ch. 2) to protect the Whiskey Mountain Bighorn Sheep Winter Range, is hereby extended for an additional 20-year period until September 13, 2030.

(Authority: 43 CFR 2310.4)

Dated: September 9, 2010.
Wilma A. Lewis,
Assistant Secretary—Land and Minerals Management.

[FR Doc. 2010-23328 Filed 9-16-10; 8:45 am]

BILLING CODE 4310-22-P